DEPARTMENT OF THE INTERIOR

Fish and Wildlife Service

Notice of Scoping Meeting and Notice of Intent to Prepare a Habitat Conservation Plan and Environmental Impact Statement for the Barton Springs Ecosystem in the Barton Springs Segment of the Edwards Aquifer

AGENCY: U.S. Fish and Wildlife Service, Interior.

ACTION: Notice of intent to conduct scoping meetings and prepare a Habitat Conservation Plan (HCP) and Environmental Impact Statement (EIS).

SUMMARY: Pursuant to the National Environmental Policy Act (NEPA), this notice advises the public that the U.S. Fish and Wildlife Service (Service) intends to prepare a draft EIS for an anticipated incidental take permit application, including an HCP, by the Barton Springs Edwards Aquifer Conservation District (District) of Austin, Texas. The proposed application is for an Incidental Take Permit for the District's management of underground water through permits authorizing withdrawals from the Barton Springs segment of the Edwards Aquifer. Such withdrawals directly affect the flow of Barton Springs, which are four hydraulically connected spring outlets constituting the major discharge points for the Barton Springs segment of the Edwards Aquifer. The District is evaluating the need for a permit for the endangered Barton Springs salamander (Eurycea sosorum) and the Austin blind salamander (Eurycea waterlooensis), a candidate for listing. Additionally, the District may prepare an HCP that includes measures to minimize and mitigate any taking of species incidental to the permitted withdrawal of groundwater from the Barton Springs segment of the Edwards Aquifer.

DATES: To ensure consideration, written comments from all interested parties concerning the scope of the analysis must be received on or before September 12, 2005. A public scoping meeting for receipt of comments will be held at 5 p.m. on August 23, 2005, at the Lady Bird Johnson Wildflower Center in Austin, Texas. The draft EIS is expected April 2007.

ADDRESSES: Comments and requests for information should be sent to the U.S. Fish and Wildlife Service, ATTN: Carrie Thompson, 10711 Burnet Road, Suite 200, Austin, Texas 78758; telephone (512) 490-0057 x230; facsimile (512) 490-0974. Comments and materials received will be available for public inspection, by appointment, during normal business hours (8 a.m. to 4:30 p.m.) at the Austin Ecological Services Office, 10711 Burnet Road, Suite 200, Austin, Texas. Questions regarding the HCP should be directed to Timothy Riley, Barton Springs Edwards Aquifer Conservation District, 1124 Regal Row, Austin, Texas 78748, telephone (512) 282-8441.

Applicant: The District, a political subdivision of the State of Texas, is charged with the duty to manage, conserve, preserve, and protect the Barton Springs segment of the Edwards Aquifer. The District issues permits for the drilling of wells and the production of groundwater for purposes that are not exempt from regulation under the Texas law requiring the District-issued permits.

SUPPLEMENTARY INFORMATION: This notice is provided as required by the NEPA, its implementing regulations (40 CFR 1500-1508) and related applicable Federal laws, Executive Orders, and regulations.

Background: The Barton Springs Ecosystem is dependent upon adequate spring flow from the Barton Springs segment of the Edwards Aquifer to support endangered species. Cessation of spring flow in the Barton Springs Ecosystem may result in “take” of listed species and an appreciable reduction in the likelihood of survival and recovery of listed species. Due to the growing water use anticipated in the Barton Springs segment of the Edwards Aquifer, a comprehensive management plan may be necessary to assure the sustained spring flow in the Barton Springs Ecosystem.

The Service proposes to prepare a draft EIS to evaluate the impacts of alternatives associated with issuing an incidental take permit under section 10(a)(1)(B) of the Endangered Species Act of 1973, as amended (Act). Section 9 of the Act prohibits the taking of Federally listed species, unless authorized under the provisions of Section 7 or 10 of the Act. The term “take” under the Act includes actions that may directly kill or injure listed species, actions that significantly disrupt normal behavioral patterns such as feeding and breeding, and actions that detrimentally modify habitat to the extent that harms individuals of the species.

Section 10(a)(1)(B) allows the Service to permit taking of listed species, provided that taking is incidental to an otherwise legal activity, and that it will not jeopardize a listed species. The applicant must submit an HCP as part of the incidental take permit application.

Proposed Action: The District will consider adoption of an HCP consistent with the Service's Barton Springs Salamander (Draft) Recovery Plan (January 2005) and with Sections 9 and 10 of the Act. The District's proposed HCP will consider a comprehensive approach to protect Federally listed species and their habitats that may be affected by groundwater withdrawals from the aquifer. Activities proposed for consideration under the Permit may include management and permitting of certain water withdrawals from the Edwards Aquifer within the jurisdiction of the District, and habitat conservation measures to mitigate impacts of changes in flows of Barton Springs.

Comments Requested: The Service is soliciting information and comments on the scope of issues to be addressed in the draft EIS. The NEPA process is intended to aid public officials to make decisions based on the understanding of environmental consequences and take actions that protect, restore, and enhance the human environment. NEPA scoping procedures are intended to ensure that information on the proposed action, alternatives, and impacts are solicited from the public and that all information is available to public officials and citizens before planning decisions are made. Accurate scientific analysis, expert agency comments, and public scrutiny are essential to implementing NEPA. NEPA documents concentrate on the issues that are significant to the action in question. The Service invites the public to submit information and comments either in writing or at the scheduled meeting. The Austin meeting is scheduled for 5 p.m. on August 23, 2005, at the Lady Bird Johnson Wildflower Center, 4801 La Crosse Avenue in Travis County, Texas. The Service requests that comments be as specific as possible.

Major environmental and species concerns in this scoping process include the direct, indirect, and cumulative impacts that implementation of the proposal could have on endangered and candidate listed species, other environmental resources, and the quality of the human environment. Other relevant issues include effects of aquifer and water withdrawal levels on Barton Springs flows, effect of various aquifer water use management options, and alternative water supply options on the environments affected by those options.

The Service is gathering information necessary for the preparation of an EIS. Information regarding the following topics would assist the Service in assessing the impacts of the proposed issuance of an incidental take permit under the provisions of an HCP: The hydrogeology of the Barton Springs segment of the Edwards Aquifer and the effects of aquifer levels on spring flows at Barton Springs as they relate to the habitat needs of Federally listed species; potential water conservation measures and strategies to reduce the withdrawal demands on the Edwards Aquifer and their negative effects on spring flows; alternate water supplies and their potential effect on reducing Edwards Aquifer water withdrawals and maintaining spring flows; effects of aquifer level management and spring flow changes on the quality of the issues; the impact of no action; or suggestions that would be relevant toward the Service's review and development of alternatives.

In addition to considering impacts on listed species and their habitat, the EIS must include information on impacts from the proposal and alternatives to the proposal on other components of the human environment. These other components include such things as air and water quality, cultural resources, other fish and wildlife species, social resources, and economic resources.

Joy E. Nicholopoulos,
Acting Regional Director, Region 2, Albuquerque, New Mexico.

[FR Doc. 05-15804 Filed 8-8-05; 8:45 am]

BILLING CODE 4510-55-P